DEPARTMENT OF COMMERCE

International Trade Administration

[A-469-815]

Finished Carbon Steel Flanges From Spain: Preliminary Results of Antidumping Duty Administrative Review; 2019-2020

AGENCY: Enforcement and Compliance, International Trade Administration, Department of Commerce.

SUMMARY: The Department of Commerce (Commerce) preliminarily determines that producers or exporters of finished carbon steel flanges (flanges) from Spain subject to this review made sales of subject merchandise at less than normal value during the period of review (POR) June 1, 2019, through May 31, 2020. We invite interested parties to comment on these preliminary results.

DATES: Applicable July 7, 2021.

FOR FURTHER INFORMATION CONTACT: Marc Castillo or Mark Flessner, AD/CVD Operations, Office VI, Enforcement and Compliance, International Trade Administration, Department of Commerce, 1401 Constitution Avenue NW, Washington, DC 20230; telephone: (202) 482-0519 or (202) 482-6312, respectively.

SUPPLEMENTARY INFORMATION:

Background

On June 14, 2017, we published in the Federal Register an antidumping duty (AD) order on flanges from Spain.¹ On June 2, 2020, Commerce published a notice of opportunity to request an administrative review of the Order.² Based on timely requests for administrative review, we initiated an administrative review of eight companies: (1) Aleaciones De Metales Sinterizados S.A.; (2) Central Y Almacenes; (3) Farina Group Spain; (4) Friedrich Geldbach Gmbh; (5) Grupo Cunado; (6) Transglory S.A.; (7) Tubacero, S.L.; and (8) ULMA Forja, S.Coop (ULMA).³ On September 24, 2020, we identified ULMA as the sole mandatory respondent in this review.⁴

¹ See Finished Carbon Steel Flanges from Spain: Antidumping Duty Order, 82 FR 27229 (June 14, 2017) (Order).

² See Antidumping or Countervailing Duty Order, Finding, or Suspended Investigation; Opportunity to Request Administrative Review, 85 FR 33628 (June 2, 2020).

³ See Initiation of Antidumping and Countervailing Duty Administrative Reviews, 85 FR 47731 (August 6, 2020).

⁴ See Memorandum, “Identification of Mandatory Respondent for the 2019-2020 Administrative Review of the Antidumping Duty Order on Finished Carbon Steel Flanges from Spain,” dated September 24, 2020.

On February 11, 2021, and May 27, 2021, we extended the deadline for the preliminary results, by a total of 120 days.⁵ The deadline for the preliminary results of this administrative review is now June 30, 2021.

⁵ See Memorandum, “Finished Carbon Steel Flanges from Spain: Extension of Time Limit for Preliminary Results of Antidumping Duty Administrative Review, 2019-2020,” dated February 11, 2021; see also Memorandum, “Finished Carbon Steel Flanges from Spain: Extension of Time Limit for Preliminary Results of Antidumping Duty Administrative Review, 2019-2020,” dated May 27, 2021.

For a complete description of the events that followed the initiation of this administrative review, see the Preliminary Decision Memorandum.⁶ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly on the internet at http://enforcement.trade.gov/frn/.

⁶ See Memorandum, “Finished Carbon Steel Flanges from Spain: Decision Memorandum for Preliminary Results of Antidumping Duty Administrative Review; 2019-2020,” dated concurrently with, and hereby adopted by, this notice (Preliminary Decision Memorandum).

Scope of the Order

The scope of the Order covers finished carbon steel flanges. Finished carbon steel flanges are currently classified under subheadings 7307.91.5010 and 7307.91.5050 of the Harmonized Tariff Schedule of the United States (HTSUS). They may also be entered under HTSUS subheadings 7307.91.5030 and 7307.91.5070. The HTSUS subheadings are provided for convenience and customs purposes; the written description of the scope is dispositive.

A full description of the scope of the Order is contained in the Preliminary Decision Memorandum.

Methodology

Commerce conducted this review in accordance with section 751 of the Tariff Act of 1930, as amended (the Act). Export price is calculated in accordance with section 772 of the Act. Normal value is calculated in accordance with section 773 of the Act. For a full description of the methodology underlying these preliminary results, see the Preliminary Decision Memorandum.

Preliminary Results of Administrative Review

We preliminarily determine that the following weighted-average dumping margins exist for the period June 1, 2019, through May 31, 2020:

Exporter or manufacturer | Weighted- average dumping margin (percent)
ULMA Forja, S.Coop | 6.43
Aleaciones De Metales Sinterizados S.A | 6.43
Central Y Almacenes | 6.43
Farina Group Spain | 6.43
Friedrich Geldbach Gmbh | 6.43
Grupo Cunado | 6.43
Transglory S.A | 6.43
Tubacero, S.L | 6.43

Non-Individually Examined Companies

For the weighted-average dumping margin for non-selected respondents in an administrative review, generally, Commerce looks to section 735(c)(5) of the Act, which provides instructions for calculating the all-others rate in an investigation. Under section 735(c)(5)(A) of the Act, the all-others rate is normally “an amount equal to the weighted average of the estimated weighted-average dumping margins established for exporters and producers individually investigated, excluding any zero or de minimis margins, and any margins determined entirely {on the basis of facts available}.” We preliminarily calculated a weighted-average dumping margin for ULMA that was not zero, de minimis, or based on facts available. Accordingly, we have preliminarily applied the weighted-average dumping margin calculated for ULMA as the weighted-average dumping margin for the non-individually examined companies.

Disclosure and Public Comment

We intend to disclose the calculations performed for these preliminary results to the parties within five days after public announcement of the preliminary results in accordance with 19 CFR 351.224(b).

Interested parties may submit case briefs no later than 30 days after the date of publication of these preliminary results of review.⁷ Rebuttal briefs may be filed no later than seven days after case briefs are due and may respond only to arguments raised in the case briefs.⁸ Parties who submit case briefs or rebuttal briefs in this proceeding are encouraged to submit with each argument: (1) A statement of the issue, (2) a brief summary of the argument, and (3) a table of authorities.⁹ Note that Commerce has temporarily modified certain of its requirements for serving documents containing business proprietary information, until further notice.¹⁰

⁷ See 19 CFR 351.309(c)(ii).

⁸ See 19 CFR 351.309(d); see also Temporary Rule Modifying AD/CVD Service Requirements Due to COVID-19; Extension of Effective Period, 85 FR 41363 (July 10, 2020) (Temporary Rule).

⁹ See 19 CFR 351.309(c)(2) and (d)(2).

¹⁰ See Temporary Rule.

Pursuant to 19 CFR 351.310(c), interested parties who wish to request a hearing must submit a written request to the Assistant Secretary for Enforcement and Compliance, filed electronically via ACCESS. Requests should contain: (1) The party's name, address and telephone number; (2) the number of participants; and (3) a list of issues to be discussed. Issues raised in the hearing will be limited to those raised in the respective case briefs.

An electronically filed document must be received successfully in its entirety by Commerce's electronic records system, ACCESS, by 5:00 p.m. Eastern Time within 30 days after the date of publication of this notice.¹¹

¹¹ See 19 CFR 351.310(c).

Unless otherwise extended, Commerce intends to issue the final results of this administrative review, which will include the results of its analysis of issues raised in any briefs, within 120 days of publication of these preliminary results of review, pursuant to section 751(a)(3)(A) of the Act.

Assessment Rate

Upon issuing the final results, Commerce will determine, and U.S. Customs and Border Protection (CBP) shall assess, antidumping duties on all appropriate entries covered by this review.¹² If a respondent's weighted-average dumping margin is not zero or de minimis (i.e., less than 0.50 percent) in the final results of this review, we intend to calculate importer-specific assessment rates on the basis of the ratio of the total amount of dumping calculated for each importer's examined sales and the total entered value of the importer's sales in accordance with 19 CFR 351.212(b)(1). If the respondent's weighted-average dumping margin is zero or de minimis in the final results, or if an importer-specific assessment rate is zero or de minimis, then we will instruct CBP to liquidate the appropriate entries without regards to antidumping duties.

¹² See 19 CFR 351.212(b)(1).

Consistent with its recent notice,¹³ Commerce intends to issue assessment instructions to CBP no earlier than 35 days after the date of publication of the final results of this review in the Federal Register. The final results of this administrative review shall be the basis for the assessment of antidumping duties on entries of merchandise under review and for future deposits of estimated duties, where applicable.

¹³ See Notice of Discontinuation of Policy to Issue Liquidation Instructions After 15 Days in Applicable Antidumping and Countervailing Duty Administrative Proceedings, 86 FR 3995 (January 15, 2021).

For entries of subject merchandise during the POR produced by ULMA for which it did not know its merchandise was destined for the United States, we will instruct CBP to liquidate unreviewed entries at the all-others rate if there is no rate for the intermediate company(ies) involved in the transaction.¹⁴

¹⁴ See Antidumping and Countervailing Duty Proceedings: Assessment of Antidumping Duties, 68 FR 23954 (May 6, 2003).

Cash Deposit Requirements

The following deposit requirements for estimated antidumping duties will be effective upon publication of the notice of final results of this review for all shipments of flanges from Spain entered, or withdrawn from warehouse, for consumption on or after the date of publication as provided by section 751(a)(2) of the Act: (1) The cash deposit rate for the companies under review, will be equal to the company-specific weighted-average dumping margin established in the final results of the review (except, if the rate is zero or de minimis, no cash deposit will be required); (2) for merchandise exported by producers or exporters not covered in this review but covered in a prior completed segment of the proceeding, the cash deposit rate will continue to be the company-specific rate published for the most recent period; (3) if the exporter is not a firm covered in this review, a prior review, or the original investigation but the producer is, the cash deposit rate will be the rate established in a prior competed segment for the most recent period for the producer of the merchandise; (4) the cash deposit rate for all other producers or exporters will continue to be 18.81 percent,¹⁵ the all-others rate established in the less-than-fair-value investigation. These cash deposit requirements, when imposed, shall remain in effect until further notice.

¹⁵ See Order, 82 FR at 27229.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing these results in accordance with sections 751(a)(1) and 777(i) of the Act and 19 CFR 351.221(b)(4).

Dated: June 30, 2021.
Christian Marsh,
Acting Assistant Secretary for Enforcement and Compliance.

Appendix—List of Topics Discussed in the Preliminary Decision Memorandum

I. Summary

II. Background

III. Scope of the Order

IV. Discussion of the Methodology

V. Recommendation

[FR Doc. 2021-14447 Filed 7-6-21; 8:45 am]

BILLING CODE 3510-DS-P